NUCLEAR REGULATORY COMMISSION

[NRC-2018-0049]

Withdrawal of Regulatory Issue Summary 2012-10, “NRC Staff Position on Applying Surveillance Requirements 3.0.2 and 3.0.3 to Administrative Controls Program Tests”

AGENCY: Nuclear Regulatory Commission.

ACTION: Generic communications; withdrawal.

SUMMARY: The U.S. Nuclear Regulatory Commission (NRC) is withdrawing Regulatory Issue Summary 2012-10, “NRC Staff Position on Applying Surveillance Requirements 3.0.2 and 3.0.3 to Administrative Controls Program Tests.” This document is being withdrawn because it contains guidance to addressees that is no longer applicable.

DATES: The effective date of the withdrawal of RIS 2012-10,”NRC Staff Position on Applying Surveillance Requirements 3.0.2 and 3.0.3 to Administrative Controls Program Tests” is March 13, 2018.

ADDRESSES: Please refer to Docket ID NRC-2018-0049 when contacting the NRC about the availability of information regarding this document. You may obtain publicly-available information related to this document using any of the following methods:

• Federal Rulemaking Website: Go to http://www.regulations.gov and search for Docket ID NRC-2018-0049. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Tanya M. Mensah, Office of Nuclear Reactor Regulation, U.S. Nuclear Regulatory Commission, Washington DC 20555-0001; telephone: 301-415-3610, email: Tanya.Mensah@nrc.gov.

SUPPLEMENTARY INFORMATION: The NRC is withdrawing Regulatory Issue Summary (RIS) 2012-10, “NRC Staff Position on Applying Surveillance Requirements 3.0.2 and 3.0.3 to Administrative Controls Program Tests” (ADAMS Accession No. ML12079A393), because the guidance contained in the document is no longer applicable. Specifically, on August 23, 2012, RIS 2012-10 was issued to inform addresses of Enforcement Guidance Memorandum (EGM) 12-001, “Dispositioning Noncompliance with Administrative Controls Technical Specifications Programmatic Requirements that Extend Test Frequencies and Allow Performance of Missed Tests.” Following the issuance of EGM-12-001, the NRC staff concluded that the staff's position taken in EGM-12-001 was incorrect. In addition, the period of enforcement discretion in EGM-12-001 has expired. Therefore, by memorandum dated February 14, 2018, EGM-12-001 was withdrawn by the NRC staff (ADAMS Accession No. ML18016A475). A summary of the NRC staff's basis for withdrawing EGM-12-001 is included in the memorandum.

The NRC's generic communication website will be updated to reflect RIS 2012-10 as withdrawn. The generic communications website is accessible at https://www.nrc.gov/reading-rm/doc-collections/gen-comm/.

Dated at Rockville, Maryland, this 8th day of March 2018.
For the Nuclear Regulatory Commission.
Tanya M. Mensah,
Senior Project Manager, ROP and Generic Communications Branch, Division of Inspection and Regional Support, Office of Nuclear Reactor Regulation.

[FR Doc. 2018-04986 Filed 3-12-18; 8:45 am]

BILLING CODE 7590-01-P